DEPARTMENT OF DEFENSE

GENERAL SERVICES ADMINISTRATION

NATIONAL AERONAUTICS AND SPACE ADMINISTRATION

48 CFR Parts 12, 29, and 52

[FAR Case 2018-023; Docket No. 2018-0023; Sequence No. 1]

RIN 9000-AN81

Federal Acquisition Regulation: Taxes-Foreign Contracts in Afghanistan; Correction

AGENCY: Department of Defense (DoD), General Services Administration (GSA), and National Aeronautics and Space Administration (NASA).

ACTION: Proposed rule; correction.

SUMMARY: On September 20, 2019, DoD, GSA, and NASA published a document proposing to amend the Federal Acquisition Regulation (FAR) to add two new clauses that notify contractors of requirements relating to Afghanistan taxes or similar charges when contracts are being performed in Afghanistan. The document heading carried an incorrect Regulation Identifier Number (RIN). This document carries the correct RIN.

DATES: Comments for the proposed rule published September 20, 2019, at 84 FR 49502, continue to be accepted on or before November 19, 2019, to be considered in the formulation of a final rule.

ADDRESSES: Submit comments in response to FAR Case 2018-023 by any of the following methods:

• Regulations.gov: http://www.regulations.gov. Submit comments via the Federal eRulemaking portal by entering “FAR Case 2018-023” under the heading “Enter Keyword or ID” and selecting “Search”. Select the link “Comment Now” that corresponds with “FAR Case 2018-023”. Follow the instructions provided on the screen. Please include your name, company name (if any), and “FAR Case 2018-023” on your attached document.

• Mail: General Services Administration, Regulatory Secretariat Division, ATTN: Lois Mandell, 1800 F Street NW, 2nd floor, Washington, DC 20405.

Instructions: Please submit comments only and cite “FAR case 2018-023” in all correspondence related to this case. Comments received generally will be posted without change to http://www.regulations.gov, including any personal and/or business confidential information provided. To confirm receipt of your comment(s), please check www.regulations.gov, approximately two to three days after submission to verify posting (except allow 30 days for posting of comments submitted by mail).

FOR FURTHER INFORMATION CONTACT: For clarification of content, contact Mr. Kevin Funk, Procurement Analyst, at 202-357-5805 or kevin.funk@gsa.gov. For information pertaining to status or publication schedules, contact the Regulatory Secretariat Division at 202-501-4755. Please cite “FAR Case 2018-023.”

SUPPLEMENTARY INFORMATION: On September 20, 2019, at 84 FR 49502, DoD, GSA, and NASA published a proposed rule to amend the Federal Acquisition Regulation (FAR) to add two new clauses that notify contractors of requirements relating to Afghanistan taxes or similar charges when contracts are being performed in Afghanistan. The document's heading contained the incorrect RIN, “RIN 9000-AN68.” The correct RIN is “RIN 9000-AN81” and is in the heading of this correction.

William F. Clark,
Director, Office of Government-wide Acquisition Policy, Office of Acquisition Policy, Office of Government-wide Policy.

[FR Doc. 2019-22282 Filed 10-11-19; 8:45 am]

BILLING CODE 6820-EP-P